DEPARTMENT OF AGRICULTURE

Submission for OMB Review; Comment Request

February 7, 2022.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by March 14, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Clauses and Forms for Operating Plans and Agreements for Powerline Facility Operation and Maintenance, Inspections, and Vegetation Management and Clause for Vegetation Management Pilot Program Projects.

OMB Control Number: 0596-NEW.

Summary of Collection: The Consolidated Appropriations Act of 2018 amended the Federal Land Policy and Management Act (FLPMA) to add section 512, which requires the Forest Service to collect information from owners and operators of powerline facilities for development of operating plans and agreements governing vegetation management, operation and maintenance, and inspection of powerline facilities on National Forest System (NFS) lands. The collected information will be evaluated by line officers and realty specialists at Forest Service field units where powerline facilities are located to implement the requirements of section 512 of FLPMA regarding operating plans and agreements governing vegetation management, operation and maintenance, and inspections of powerline facilities.

Need and Use of the Information: Section 8630 of the Agriculture Improvement Act of 2018 (Farm Bill) gives the Forest Service discretion to authorize vegetation management pilot program projects under lower liability standards to holders of an authorization for a powerline facility or natural gas pipeline. These pilot projects may be conducted only on NFS lands that are not covered by the special use authorization for the powerline facility Start Printed Page 26206 or natural gas pipeline. The pilot projects must be conducted outside the linear right-of-way for the associated powerline facility or natural gas pipeline; may not extend more than 150 feet from either side of the powerline facility or natural gas pipeline; and may not have a total width of more than 200 feet including both sides of the powerline facility or natural gas pipeline.

In addition, the pilot projects may not overlap with vegetation management conducted under the special use authorization for the powerline facility or natural gas pipeline, including removal and pruning of hazard trees outside the linear right-of-way for a powerline facility. The liability provisions in a special use permit for a pilot project have no effect on the liability provisions in the special use authorization for the powerline facility or natural gas pipeline, including the liability provisions that apply to removal and pruning of hazard trees inside and outside the linear right-of-way. Proposed new clause B-39 in Forest Service Handbook 2709.11, Chapter 50, section 52.2, would provide for authorizing vegetation management pilot projects consistent with section 8630 of the Farm Bill and Title V of the Federal Land Policy and Management Act, section 28 of the Mineral Leasing Act, and their implementing regulations.

Description of Respondents: Individuals, private sector, business and nonprofit entities and state, local, and tribal governmental.

Number of Respondents: 54.

Frequency of Responses: Reporting: On occasion; Annually.

Total Burden Hours: 5,400.

Levi S. Harrell,
Departmental Information Collection Clearance Officer.

[FR Doc. 2022-02926 Filed 2-10-22; 8:45 am]

BILLING CODE 3411-15-P